DEPARTMENT OF COMMERCE

Bureau of Economic Analysis

Proposed Information Collection; Comment Request; Foreign Ocean Carriers' Expenses in the United States

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m. June 5, 2006.

ADDRESSES: Direct all written comments to Diane Hynek, Departmental Paperwork Clearance Officer, Department of Commerce, Room 6625, 14th and Constitution Avenue, NW., Washington, DC 20230 (or via the Internet at dhynek@doc.gov).

FOR FURTHER INFORMATION CONTACT: Edward Dozier, Current Account Services Branch, Balance of Payments Division, (BE-58), Bureau of Economic Analysis, U.S. Department of Commerce, Washington, DC 20230; phone: (202) 606-9559; fax: (202) 606-5314; or via the Internet at edward.dozier@bea.gov.

SUPPLEMENTARY INFORMATION:

I. Abstract

The Bureau of Economic Analysis (BEA) is responsible for the compilation of the U.S. international transactions accounts (ITA), which it publishes quarterly in news releases, on its Web site, and in its monthly journal, the Survey of Current Business. These accounts provide a statistical summary of all U.S. international transactions and, as such, are one of the major statistical products of BEA. They are used extensively by both government and private organizations for national and international economic policy formulation and for analytical purposes. The information collected in this survey is used to develop the “transportation” portion of the ITA. Without this information, an integral component of the ITA would be omitted. No other Government agency collects comprehensive annual data on foreign ocean carriers' expenses in the United States.

The survey requests information from U.S. agents of foreign ocean carriers operating in the United States. The information is collected on an annual basis from U.S. agents who handle 40 or more port calls by foreign ocean vessels, and covered expenses for all foreign ocean vessels handled by the U.S. agent were $250,000 or more. U.S. agents who handle less than 40 port calls or where the total annual covered expenses for all foreign ocean vessels handled by the U.S. agent are below $250,000 are exempt from reporting. There are no changes proposed to the form or instructions.

II. Method of Collection

Form BE-29 is an annual report that must be filed within 90 days after the end of the calendar year. Potential respondents are U.S. agents or other persons representing foreign carriers in arranging ocean transportation between U.S. and foreign ports and in arranging for port services in the United States, and that handle 40 or more port calls by foreign vessels and covered expenses for all foreign ocean vessels handled by the U.S. agent were $250,000 or more.

III. Data

OMB Number: 0608-0012.

Form Number: BE-29.

Type of Review: Regular submission.

Affected Public: Businesses or other for-profit organizations.

Estimated Number of Respondents: 156 annually.

Estimated Time Per Response: 4 hours.

Estimated Total Annual Burden Hours: 624.

Estimated Total Annual Cost: $24,960 (based on an estimated reporting burden of 624 hours and an estimated hourly cost of $40).

Respondent's Obligation: Mandatory.

Legal Authority

The International Investment and Trade in Services Survey Act, 22 U.S.C. 3101-3108, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2006.
Gwellnar Banks,
Management Analyst, Office of Chief Information Officer.

[FR Doc. E6-4889 Filed 4-4-06; 8:45 am]

BILLING CODE 3510-06-P